DEPARTMENT OF DEFENSE

Office of the Secretary

Notice of Proposed Solicitation for Cooperative Agreement Applications (SCAA)

AGENCY: Defense Logistics Agency, DoD.

ACTION: Proposed solicitation for cost sharing cooperative agreement applications.

SUMMARY: The Defense Logistics Agency (DLA) executes the DoD Procurement Technical Assistance Program (PTAP) by awarding cost sharing cooperative agreements to assist eligible entities in establishing or maintaining procurement technical assistance centers (PTACs) pursuant to Chapter 142 of title 10, United States Code. Eligible entities include states, local governments, private nonprofit organizations, tribal organizations and economic enterprises.

In order to maintain continuity of the program, DLA will be issuing a Solicitation for Cooperative Agreement Applications (SCAA) for tribal organizations and economic enterprises, as defined by 10 U.S.C. 2411(1)(D) (a separate SCAA was previously issued for other eligible entities; see 75 FR 24663). This SCAA will be a follow-on to SCAA issued on April 7, 2008 and to the SCAA issued on May 5, 2009. When issued, the SCAA will govern the submission of applications to be considered for base year cost sharing cooperative agreement awards in Fiscal Year 2011. The SCAA will also allow for two option period awards in Fiscal Years 2012 and 2013.

A proposed version of this SCAA, which contains a number of changes from previous solicitations, will be posted for comment on or about February 15, 2011 at http://www.dla.mil/db/ptap.asp (select “Information for PTAP funding recipients” at the bottom of the page). Printed copies are not available for distribution.

Written comments regarding this proposed SCAA may be submitted via mail to Headquarters, Defense Logistics Agency, Office of Small Business Programs (Attn: Grants Officer), 8725 John J. Kingman Road, Suite 1127, Fort Belvoir, VA 22060-6221 or via e-mail to PTAP@dla.mil.

All comments must be received by March 22, 2011 for them to receive consideration. It is anticipated that the final SCAA will be posted on the DLA Web site by April 4, 2011. A notice will be posted at Grants.gov announcing the SCAA along with details on how to submit applications.

FOR FURTHER INFORMATION CONTACT: DLA Office of Small Business Programs at (703) 767-0192.

Dated: February 9, 2011.
Morgan F. Park,
Alternate OSD Federal Register Liaison Officer, Department of Defense.

[FR Doc. 2011-3332 Filed 2-14-11; 8:45 am]

BILLING CODE 5001-06-P